DEPARTMENT OF HEALTH AND HUMAN SERVICES

Centers for Disease Control and Prevention

[Program Announcement 00101]

Announcement of a Cooperative Agreement with the American Indian Higher Education Consortium (AIHEC) To Enhance Research, Infrastructure, and Capacity Building Notice of Availability of Funds

A. Purpose

The Centers for Disease Control and Prevention (CDC) and the Agency for Toxic Substances and Disease Registry (ATSDR) announce the availability of fiscal year (FY) 2000 funds for a cooperative agreement program with the American Indian Higher Education Consortium (AIHEC). The purpose of the program is to assist the AIHEC in developing the commitment and capacity of their member institutions to promote education, development, research, leadership and community partnerships that enhance the participation of American Indians/Alaska Natives in the health professions; and to enhance the health status of American Indians/Alaska Natives in the United States.

The CDC and ATSDR are committed to achieving the health promotion and disease prevention objectives of “Healthy People 2010”, a national activity to reduce morbidity and mortality and to improve the quality of life. This announcement is related to the “Healthy People 2010” objectives which specify improving the health of groups of people bearing a disproportionate burden of poor health as compared to the total population. The framework of “Heathy People 2010” consists of two broad goals which are to:

1. Increase quality and years of healthy life; and

2. Eliminate health disparities.

Healthy People” is the national prevention initiative that identifies opportunities to improve the health of all Americans. For the conference copy of “Healthy People 2010” visit the internet site: <http://www.health.gov/healthypeople>

The life expectancy of Americans has steadily increased. In 1979, when the first “Healthy People: The Surgeon General's Report on Health Promotion and Disease Prevention” was published, average life expectancy was 73.7 years. Based on current mortality experience, babies born in 1995 are expected to live 75.8 years. However, people have become increasingly interested in other health goals, such as preventing disability, improving functioning, and relieving pain and the distress caused by physical and emotional symptoms.

The proportion of the population who assess their current health status positively has not changed substantially during the past decade. In 1987, the percentage was 90.4 percent. During the same period, the percentage of the population reporting that they were limited in major activity due to chronic conditions actually increased from 18.9 percent in 1988, to 21.4 percent in 1995.

Eliminating disparities by the year 2010 will require new knowledge about the determinants of disease and effective interventions for prevention and treatment. It will also require improved access for all to the resources that influence health. Reaching this goal will necessitate improved collection and use of standardized data to correctly identify all high-risk populations and monitor the effectiveness of health interventions targeting these groups. Research dedicated to a better understanding of the relationships between health status and income, education, race and ethnicity, cultural influences, environment, and access to quality medical services will help us acquire new insights into eliminating the disparities and developing new ways to apply our existing knowledge toward this goal. Improving access to quality health care and the delivery of preventive and treatment services will require working more closely with communities to identify culturally sensitive implementation strategies.

Although health statistics on race, ethnicity, socioeconomic status and disabilities are sparse, the data we do have demonstrates the volume of work needed to eliminate health disparities. The greatest opportunities for improvement and the greatest threats to the future health status of the Nation reside in the population groups that have historically been disadvantaged economically, educationally and politically.

B. Eligible Applicants

Assistance will be provided only to the American Indian Higher Education Consortium (AIHEC). No other applications are solicited.

The American Indian Higher Education Consortium (AIHEC), a non-profit 501(c)(3) tax exempt organization under the Internal Revenue Code, was formed in October, 1972, by six Indian community colleges with a view toward mobilizing a concerted effort to deal with developmental problems common to them all. AIHEC was established for the purpose of providing or facilitating technical assistance and training programs to assist in the development of its member schools.

AIHEC was established as an exercise in tribal sovereignty with which to meet the expressed needs of each institution's tribal population. AIHEC believes these institutions to be the only ones that comprehensively address the technical development needs of their constituent tribes while promoting and enhancing their tribal cultures and representing the tribes within the broader academic community.

AIHEC is responsible for providing training and assistance based on individual needs and organizational resources. The AIHEC colleges and universities are the most appropriate and qualified institutions to provide services specified under this cooperative agreement because:

1. AIHEC is sponsored in part by 30 member Tribal Colleges and Universities (TCUs) located throughout the United States. The consortium began with six Tribal colleges in 1972 and has expanded to 30 institutions, which exist today. AIHEC strives to serve the common needs of its member institutions by providing the infrastructure for educational advancement.

2. The consortium of Tribal Colleges and Universities (TCUs) individually serve the diverse needs of Tribal Nations and Native American people in 12 States within the United States.

3. Each institution has unique methods in serving their respective population. AIHEC is the only national Native American organization that is comprised of and specifically charged with representing the TCUs.

4. The AIHEC is uniquely positioned to consult with TCUs because their main purpose is to be the primary advocate and liaison when collaborating with the Federal government, State government, World Health Organization, universities, colleges, and other organizations.

5. The majority of graduates from TCUs work with the Federal government and Tribal government.

6. AIHEC is currently promoting public health initiatives among tribal members to improve the health status of the Indian Nations. Each institution is unique in two ways: (1) they attempt to organize and deliver services to the Indian people; and (2) they administer health care to Indian people within their respective area.

7. AIHEC promotes public health activities and the Healthy People 2010 Objectives in pursuit of improving the health status of American Indians/Alaska Natives.

8. AIHEC strives to assist the Indian Nations in the development and implementation of the highest standards of education that are consistent with the inherent rights of tribal sovereignty and self-determination.

9. AIHEC has provided a critical framework for TCUs in serving their tribal communities as a resource to comprehensively address the technical and economic development needs of their constituents. TCUs serve their communities as resources for research, human resource development, and community organization.

10. The overall goal for AIHEC and the TCUs is to provide educational programs that respond to the community and student needs.

11. The Tribal college's vision in organizing the AIHEC is to unify and strengthen the tribal colleges' curriculum within the Federal and State governments, focusing on health and prevention. The organization has well established linkages with American Indians/Alaska Natives, National Indian organizations and Federal agencies.

12. AIHEC has experience in managing activities and resources through cooperative agreements with Federal, State and local governments.

C. Availability of Funds

Approximately $200,000 is available in FY 2000 to fund this cooperative agreement. AIHEC will solicit applications for special projects and fund subawards within the scope of this program announcement. Subawards will be funded through CDC and ATSDR. A cumulative award of approximately $2,000,000 to the AIHEC is expected during FY 2000. It is expected that the awards will begin on September 30, 2000.

Funding estimates may vary and are subject to change. Continuation awards within the project period will be made on the basis of satisfactory progress and the availability of funds.

D. Where to obtain Additional Information

A complete program description and information on application procedures are contained in the application package. Business management technical assistance may be obtained from: Sharon Robertson, Senior Grants Management Specialist, Grants Management Branch, Procurement and Grants Office, Centers for Disease Control and Prevention (CDC) 2920 Brandywine Road, Room 3000, M.S. E-15, Koger Center, Colgate Building, Atlanta, Georgia 30341-3724. Telephone 770-488-2720. E-mail address sqr2@cdc.gov.

Program technical assistance may be obtained from: Karen E. Harris, Senior Advisor for Research Projects, Office of the Associate Director for Minority Health, Office of the Director, Centers for Disease Control and Prevention, 1600 Clifton Road, Northeast, Mailstop D-39, Atlanta, Georgia 30333. Telephone (404) 639-4313, e-mail address keh2@cdc.gov.

Dated: July 19, 2000.
Henry S. Cassell, III,
Acting Director, Procurement and Grants Office, Centers for Disease Control and Prevention (CDC).

[FR Doc. 00-18702 Filed 7-24-00; 8:45 am]

BILLING CODE 4163-18-P